DEPARTMENT OF HEALTH AND HUMAN SERVICES

Health Resources and Services Administration

National Advisory Council on Nurse Education and Practice; Notice of Meeting

In accordance with section 10(a)(2) of the Federal Advisory Committee Act (Pub. L. 92-463), notice is hereby given of the following meeting:

Name: National Advisory Council on Nurse Education and Practice (NACNEP).

Dates and Times: April 7, 2005, 8:30 a.m.-5 p.m., April 8, 2005, 8:30 a.m.-3 p.m.

Place: DoubleTree Hotel and Executive Center, 1750 Rockville Pike, Rockville, Maryland 20852.

Status: The meeting will be open to the public.

Agenda: Agency and Bureau administrative updates will be provided. The purpose of the meeting will be to address issues related to the impact of violence on the nursing workforce. An international expert in security will present the state of the art in terms of improved safety across the healthcare continuum. An educator with expertise in curricular issues and violence will present content specific to interpersonal violence, including the significance of the relevant Institute of Medicine report and resulting education and practice considerations. Finally, a practice expert will present on institutional security from the perspective of the Emergency Department. Council workgroups will deliberate on content presented and formulate recommendations to the Secretary of Health and Human Services and the Congress about improved safety in nursing education and practice and its influence in registered nurse recruitment and retention. This meeting will form the basis for NACNEP's mandated Fifth Annual Report. In addition, the Council will hear a presentation on a contract underway to define key factors in defining health care facilities with a critical shortage of nurses and about exemplary projects that promote effective recruitment of minority and disadvantaged individuals into nursing.

For Further Information Contact: Anyone interested in obtaining a roster of members, minutes of the meeting, or other relevant information should write or contact Ms. Donna English, M.P.H., R.N., Acting Executive Secretary, National Advisory Council on Nurse Education and Practice, Parklawn Building, Room 9-35, 5600 Fishers Lane, Rockville, Maryland 20857, telephone (301) 443-5688.

Dated: March 11, 2005.
Tina M. Cheatham,
Director, Division of Policy Review and Coordination.

[FR Doc. 05-5300 Filed 3-16-05; 8:45 am]

BILLING CODE 4165-15-P